DEPARTMENT OF TRANSPORTATION

Federal Aviation Administration

[Docket No. FAA-2019-0269]

Agency Information Collection Activities: Requests for Comments; Clearance of a Renewed Approval of Information Collection: FAA Acquisition Management System (FAAAMS)

AGENCY: Federal Aviation Administration (FAA), DOT.

ACTION: Notice and request for comments.

SUMMARY: In accordance with the Paperwork Reduction Act of 1995, FAA invites public comments about our intention to request the Office of Management and Budget (OMB) approval to renew an information collection. The collection involves the FAA Acquisition Management System (FAAAMS) and information collected in response to notices regarding FAA acquisitions. The information to be collected is necessary to solicit, award, and administer contracts for supplies, equipment, services, facilities, and real property to fulfill FAA's mission.

DATES: Written comments should be submitted by June 7, 2019.

ADDRESSES: Please send written comments:

By Electronic Docket: www.regulations.gov (Enter docket number into search field).

By mail: Tim Eckert, Federal Aviation Administration (AAP-110), 800 Independence Ave. SW, FOB-10A, Room 439, Washington, DC 20591.

By fax: 202-267-8401.

FOR FURTHER INFORMATION CONTACT: Tim Eckert by email at: Tim.Eckert@faa.gov, phone: 202-267-7527.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0595.

Title: FAA Acquisition Management System (FAAAMS).

Form Numbers: Please see https://fast.faa.gov/PPG_Procurement_Forms.cfm for all forms.

Type of Review: Renewal of an information collection.

Background: The FAAAMS establishes policies and internal procedures for FAA acquisition. Section 348 of Public Law 104-50 directed FAA to establish an acquisition system. The information collection is carried out as an integral part of FAA's acquisition process. Various portions of the AMS describe information needed from vendors seeking or already doing business with FAA. Our contracting offices collect the information to plan, solicit, award, administer and close individual contracts. Our small business office collects information to promote and increase small business participation in FAA contracts. AMS requires information collection through documents and forms in the following areas (specific information collected varies by the nature of each contracting action):

Market survey information: Used to identify products and services available to meet FAA needs.

Requests for information and draft procurement documents: Used to obtain vendor comments on requirements identified as satisfying an FAA need.

Screening information requests: Used to evaluate vendor-specific technical solutions, capabilities, and others qualifications that may result in a contract for a defined FAA need.

Cost and pricing data: Used to determine reasonableness of prices offered by vendors for an FAA requirement.

Other information supporting vendor proposals (such as bonding and insurance information): Used to determine vendor eligibility to receive contract award and to satisfy other statutory and policy requirements for contract award.

Subcontracting plans: Used to set goals and monitor progress for small business participation in awarded contracts.

Process and system descriptions (such as accounting system, property system, and purchasing system): Used to determine adequacy of vendor processes and controls to properly account for costs, property, quality assurance, etc.

Cost Accounting Standards disclosures and related information: Used to determine if vendor processes are in place to properly classify, account for, and charge costs under contracts.

Contractor records for audit, contract compliance, and reporting purposes (such as financial information, labor standards, and quality reports): Used to ensure compliance with laws, regulations, policy and contract terms.

Contract performance records: Used to measure of contract cost and schedule performance.

Small business declaration: Used as evidence of eligibility for contracts restricted to small business.

Small business utilization information: Used to help ensure FAA satisfies goals to increase economic opportunity for small businesses.

Respondents: Contractors with an interest in or involved with FAA acquisitions—estimated number 15,298.

Frequency: On occasion.

Estimated Average Burden per Response: 7.5 hours.

Estimated Total Annual Burden: 2,000,719 hours.

Issued in Washington, DC, on April 2, 2019.
Colleen Gutrick,
Acquisition Program Analyst, Life Cycle Acquisition Policy Branch, AAP-130.

[FR Doc. 2019-06760 Filed 4-5-19; 8:45 am]

BILLING CODE 4910-13-P